DEPARTMENT OF THE INTERIOR

National Park Service

[NPS-WASO-NRNHL-23703; PPWOCRADI0, PCU00RP14.R50000]

National Register of Historic Places; Notification of Pending Nominations and Related Actions

AGENCY: National Park Service, Interior.

ACTION: Notice.

SUMMARY: The National Park Service is soliciting comments on the significance of properties nominated before July 1, 2017, for listing or related actions in the National Register of Historic Places.

DATES: Comments should be submitted by August 11, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before July 1, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

In the interest of preservation, a Shortened comment period has been requested for the following resource(s):

MASSACHUSETTS

Suffolk County

Quincy Grammar School (Chinese Immigrants and Chinese Americans in the City of Boston MPS), 88-90 Tyler St., Boston, MP100001458, Comment period: 3 days

Nominations Submitted by Federal Preservation Officers: The State Historic Preservation Officer reviewed the following nominations and responded to the Federal Preservation Officer within 45 days of receipt of the nominations and supports listing the properties in the National Register of Historic Places.

GEORGIA

Union County

Nottely Hydroelectric Project, (Tennessee Valley Authority Hydroelectric System, 1933-1979 MPS), Nottely Dam Rd., Blairsville, MP100001455

KENTUCKY

Livingston County

Kentucky Hydroelectric Project, (Tennessee Valley Authority Hydroelectric System, 1933-1979 MPS), 640 Kentucky Dam Rd., Grand Rivers vicinity, MP100001456

NORTH CAROLINA

Cherokee County

Apalachia Hydroelectric Project, (Tennessee Valley Authority Hydroelectric System, 1933-1979 MPS), Apalachia Dam Rd., Murphy, MP100001459

Hiwassee Hydroelectric Project, (Tennessee Valley Authority Hydroelectric System, 1933-1979 MPS), 600 Powerhouse Rd., Murphy, MP100001460

Clay County

Chatuge Hydroelectric Project, (Tennessee Valley Authority Hydroelectric System, 1933-1979 MPS), 221 Old Ranger Rd., Hayesville, MP100001461

Graham County

Fontana Hydroelectric Project, (Tennessee Valley Authority Hydroelectric System, 1933-1979 MPS), 1011 Fontana Dam Rd., Fontana Dam, MP100001462

TENNESSEE

Carter County

Watauga Hydroelectric Project, (Tennessee Valley Authority Hydroelectric System, 1933-1979 MPS), 774 Wilbur Dam Rd., Elizabethton, MP100001463

Coffee County

Normandy Dam Project, (Tennessee Valley Authority Hydroelectric System, 1933-1979 MPS), Frank Hiles Rd. E of Coffee-Bedford County Line, Normandy, MP100001464

Franklin County

Tims Ford Hydroelectric Project, (Tennessee Valley Authority Hydroelectric System, 1933-1979 MPS), 461 Powerhouse Rd., Winchester, MP100001465

Hamilton County

Chickamauga Hydroelectric Project, (Tennessee Valley Authority Hydroelectric System, 1933-1979 MPS), 5400 Lake Resort Dr., Chattanooga, MP100001466

Hardin County

Pickwick Landing Hydroelectric Project, (Tennessee Valley Authority Hydroelectric System, 1933-1979 MPS), 850 Carolina Ln., Counce, MP100001467

Jefferson County

Cherokee Hydroelectric Project, (Tennessee Valley Authority Hydroelectric System, 1933-1979 MPS), 450 Powerhouse Rd., Rutledge, MP100001468

Loudon County

Fort Loudon Hydroelectric Project, (Tennessee Valley Authority Hydroelectric System, 1933-1979 MPS), 1280 City Park Dr., Lenoir City, MP100001469

Melton Hill Hydroelectric Project, (Tennessee Valley Authority Hydroelectric System, 1933-1979 MPS), 2009 Grubb Rd., Lenoir City, MP100001470

Tellico Dam Project, (Tennessee Valley Authority Hydroelectric System, 1933-1979 MPS), c/o 1280 City Park Dr., Lenoir City, MP100001471

Marion County

Nickajack Hydroelectric Project, (Tennessee Valley Authority Hydroelectric System, 1933-1979 MPS), 3490 TVA Rd., Jasper, MP100001472

Polk County

Ocoee No. 3 Hydroelectric Project, (Tennessee Valley Authority Hydroelectric System, 1933-1979 MPS), 1988 US 64, Benton, MP100001473

Rhea County

Watts Barr Hydroelectric Project, (Tennessee Valley Authority Hydroelectric System, 1933-1979 MPS), 6868 Watts Bar Hwy., Spring City, MP100001474

Sevier County

Douglas Hydroelectric Project, (Tennessee Valley Authority Hydroelectric System, 1933-1979 MPS), 850 Powerhouse Way, Dandridge, MP100001475

Sullivan County

Boone Hydroelectric Project, (Tennessee Valley Authority Hydroelectric System, 1933-1979 MPS), 301 Boone Dam Rd., Kingsport, MP100001476

Fort Patrick Henry Hydroelectric Project, (Tennessee Valley Authority Hydroelectric System, 1933-1979 MPS), Rt. 1 Box 2385, Kingsport, MP100001477

South Holston Hydroelectric Project, (Tennessee Valley Authority Hydroelectric System, 1933-1979 MPS), 918 South View Rd., Bristol, MP100001478

Authority: 60.13 of 36 CFR part 60.

Dated: July 5, 2017.
J. Paul Loether,
Chief, National Register of Historic Places/National Historic Landmarks Program and Keeper, National Register of Historic Places.

[FR Doc. 2017-15781 Filed 7-26-17; 8:45 am]

BILLING CODE 4312-52-P